DEPARTMENT OF ENERGY

Reinstatement of a Previously Approved Information Collection for the Weatherization Assistance Program

AGENCY: Office of State and Community Energy Programs, U.S. Department of Energy.

ACTION: Notice and request for comments.

SUMMARY: The U.S. Department of Energy (DOE), pursuant to the Paperwork Reduction Act of 1995, intends to extend a previously approved collection, without change, for three years with the Office of Management and Budget (OMB). The information collection request, Weatherization Assistance Program Sub-Programs, was previously approved on May 26, 2022, under OMB Control No. 1910-5157 and expires on May 31, 2025.

DATES: Comments regarding this collection must be received on or before January 24, 2025. If you anticipate difficulty in submitting comments within that period, contact the person listed below as soon as possible.

ADDRESSES: Written comments may be sent to Rose Croog by email to the following address: rose.croog@hq.doe.gov with the subject line “Weatherization Assistance Program Sub-Programs (OMB No. 1910-5157)” included in the message.

FOR FURTHER INFORMATION CONTACT: Requests for additional information or copies of the information collection instrument and instructions should be directed to Rose Croog, by email or phone at rose.croog@hq.doe.gov, (240) 702-5375.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5157;

(2) Information Collection Request Title: “Weatherization Enhancement and Innovation (E&I), Sustainable Energy Resources for Consumers (SERC), and Community Scale Weatherization Pilot Grants”;

(3) Type of Request: Extension, without change, of a previously approved collection for which approval has expired;

(4) Purpose: To collect information on the status of grantee activities, including but not limited to weatherized units, total people assisted with grant funds, expenditures, and results, to ensure that program funds are being used appropriately, effectively and expeditiously. All information collection proposed under these programs is necessary for their implementation, and thus necessary for the function of the Agency as a whole. The information collected will be used by program staff to track the recipients of E&I, SERC, and Community Scale activities, their progress in achieving scheduled milestones, and funds expended (including expenditure rates). The information also enables program staff to provide required or requested information on program activities to OMB, Congress and the public.

(5) Annual Estimated Number of Respondents: 205;

(6) Annual Estimated Number of Total Responses: 379;

(7) Annual Estimated Number of Burden Hours: 2,013 hours;

(8) Annual Estimated Reporting and Recordkeeping Cost Burden: $136,954.47.

Statutory Authority: Section 414D of the Energy Act of 2020, Pub. L. 116-260, div. Z, title I, codified at 42 U.S.C. 6864d and section 411(b) of the Energy Independence and Security Act of 2007, Pub. L. 110-140, title IV, codified at 42 U.S.C. 6872.

Signing Authority

This document of the Department of Energy was signed on November 19, 2024, by David Crane, Under Secretary for Infrastructure for U.S. Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 20, 2024.
Treena V. Garrett,
Federal Register Liaison Officer, U.S. Department of Energy.

[FR Doc. 2024-27523 Filed 11-22-24; 8:45 am]

BILLING CODE 6450-01-P